DEPARTMENT OF THE INTERIOR

Bureau of Land Management

[LLCON01000.L1020000.JB0000.19X]

Notice of Temporary Travel Restriction on Public Lands in Moffat County, Colorado

AGENCY: Bureau of Land Management, Interior.

ACTION: Notice of temporary travel restriction.

SUMMARY: Notice is hereby given that a temporary restriction of activities is in effect on public lands administered by the Little Snake Field Office, Bureau of Land Management (BLM).

DATES: The temporary restriction takes effect on August 9, 2019 and lasts until July 12, 2021.

ADDRESSES: Copies of this temporary closure, maps and associated documents are available at the BLM Little Snake Field Office, 455 Emerson Street, Craig, Colorado 81625.

FOR FURTHER INFORMATION CONTACT: Bruce Sillitoe, Field Manager, BLM Little Snake Field Office, at the ADDRESSES section above. Phone: (970) 826-5000, Email: lsfoweb@blm.gov. Persons who use a telecommunications device for the deaf (TDD) may call the Federal Relay Service (FRS) at 1-800-877-8339 to contact the above individual during normal business hours. The FRS is available 24 hours a day, 7 days a week, to leave a message or question with the above individual. You will receive a reply during normal hours.

SUPPLEMENTARY INFORMATION: The BLM will temporarily restrict motorized vehicle use on BLM-administered lands to existing routes on approximately 3,081 acres in the Sand Wash Open Off-Highway Vehicle Area affected by the 2018 Boone Draw Fire. This action is necessary to allow reseeding and revegetation efforts to take hold in the area, prevent erosion, and protect public health and safety.

This temporary restriction affects public lands north of Colorado State Route 318; west of the Sand Wash Herd Management Area; and south of the intersection at Moffat County Roads 46 and 48 in Moffat County, Colorado. The legal description of the affected public lands is:

Colorado, Sixth Principal Meridian

T. 8 N, R. 99 W, Sections 3-5, 7-10.

The area to be temporarily restricted is a designated open area for OHV use. With the loss of vegetative cover following the Boone Draw Fire, there is high risk of severe erosion in the area. Unrestricted motorized use may hinder rehabilitation efforts and accelerate erosion problems. The BLM will post temporary restriction signs at the main entry points to this area and the temporary restriction order will be posted at the BLM Little Snake Field Office, see the ADDRESSES section earlier.

This temporary restriction is categorically excluded from further documentation under the National Environmental Policy Act in accordance with 516 DM2, Appendix 3, 1.13. Under the authority of Section 303(a) of the Federal Land Policy and Management Act of 1976 (43 U.S. C. 1733(a)), 43 CFR 8360.0-7, and 43 CFR 8364.1, the BLM will enforce the following temporary restriction within the portion of the Sand Wash Open Area affected by the Boone Draw Fire:

All motorized use within the temporary restricted area will be limited to existing routes. Cross country motorized travel is prohibited until this temporary restriction is lifted.

Exemptions: The following persons are exempt from this order: Federal, State, and local officers and employees in the performance of their official duties; members of organized rescue or firefighting forces in the performance of the official duties; and persons with written authorization from the BLM.

Penalties: Any person who violates this temporary restriction may be tried before a United States Magistrate and fined in accordance with 18 U.S. C. 3571, imprisoned no more than 12 months under 43 U.S.C. 1733(a) and 43 CFR 8360.07, or both. In accordance with 43 CFR 8365.17, State or local officials may also impose penalties for violations of State law.

(Authority: 43 CFR 8364.1)

Jamie E. Connell,
BLM Colorado State Director.

[FR Doc. 2019-14716 Filed 7-9-19; 8:45 am]

BILLING CODE 4310-JB-P